FEDERAL COMMUNICATIONS COMMISSION

47 CFR Parts 20 and 68

[CG Docket No. 13-46, WT Docket Nos. 07-250 and 10-254; FCC 17-135]

Hearing Aid Compatibility Standards

AGENCY: Federal Communications Commission.

ACTION: Final rule; announcement of effective date.

SUMMARY: In this document, the Commission announces that the Office of Management and Budget (OMB) has approved, for a period of three years, the information collection associated with rules adopted in the Commission's document Access to Telecommunication Equipment and Services by Persons with Disabilities; Amendment of the Commission's Rules Governing Hearing Aid-Compatible Mobile Handsets et. al., Report and Order and Order on Reconsideration (Order). This document is consistent with the Order, which stated that the Commission would publish a document in the Federal Register announcing the effective date of those rules.

DATES: The additions of §§ 68.501 through 68.504 (subpart F), published at 83 FR 8624, February 28, 2018, are effective May 21, 2018.

FOR FURTHER INFORMATION CONTACT: Susan Bahr, Disability Rights Office, Consumer and Governmental Affairs Bureau, at (202) 418-0573, or email: Susan.Bahr@fcc.gov.

SUPPLEMENTARY INFORMATION: This document announces that, on May 1, 2018, OMB approved, for a period of three years, the information collection requirements contained in the Commission's Order, FCC 17-135, published at 83 FR 8624, February 28, 2018. The OMB Control Number is 3060-0687. The Commission publishes this document as an announcement of the effective date of the rules. If you have any comments on the burden estimates listed below, or how the Commission can improve the collections and reduce any burdens caused thereby, please contact Cathy Williams, Federal Communications Commission, Room 1-C823, 445 12th Street SW, Washington, DC 20554. Please include the OMB Control Number, 3060-0687, in your correspondence. The Commission will also accept your comments via the internet if you send them to PRA@fcc.gov.

To request materials in accessible formats for people with disabilities (Braille, large print, electronic files, audio format), send an email to fcc504@fcc.gov or call the Consumer and Governmental Affairs Bureau at (202) 418-0530 (voice), (844) 432-2275 (videophone), or (202) 418-0432 (TTY).

Synopsis

As required by the Paperwork Reduction Act of 1995 (44 U.S.C. 3507), the FCC is notifying the public that it received OMB approval on May 1, 2018, for the information collection requirements contained in the Commission's rules at §§ 68.501 through 68.504.

Under 5 CFR 1320, an agency may not conduct or sponsor a collection of information unless it displays a current, valid OMB Control Number.

No person shall be subject to any penalty for failing to comply with a collection of information subject to the Paperwork Reduction Act that does not display a current, valid OMB Control Number. The OMB Control Number is 3060-0687.

The foregoing notice is required by the Paperwork Reduction Act of 1995, Public Law 104-13, October 1, 1995, and 44 U.S.C. 3507.

The total annual reporting burdens and costs for the respondents are as follows:

OMB Control Number: 3060-0687.

OMB Approval Date: May 1, 2018.

OMB Expiration Date: May 31, 2021.

Title: Access to Telecommunications Equipment and Services by Persons with Disabilities, CC Docket No. 87-124.

Form Number: N/A.

Type of Review: Revision of a currently approved collection.

Respondents: Businesses or other for-profit entities; not-for-profit entities.

Number of Respondents and Responses: 331 respondents; 3,028 responses.

Estimated Time per Response: .25 hours (15 minutes) to 24 hours.

Frequency of Response: Annual and on-occasion reporting requirements; Third party disclosure requirement.

Obligation to Respond: Required to obtain or retain benefits. The statutory authority for this information collection is contained in section 710 of the Communications Act of 1934, as amended, 47 U.S.C. 610.

Total Annual Burden: 7,236 hours.

Total Annual Cost: $991,618.

Nature and Extent of Confidentiality: An assurance of confidentiality is not offered because this information collection does not require the collection of personally identifiable information from individuals.

Privacy Impact Assessment: No impact(s).

Needs and Uses: This information collection pertains to the extension of the currently approved information collection requirements concerning hearing aid compatibility (HAC) for wireline handsets used with the legacy telephone network, updated estimates of existing burdens that were included in the February 2015 PRA submission to OMB, and new information collection requirements related to HAC for wireline handsets used with advanced communications services (ACS), such as Voice over Internet Protocol (VoIP). These handsets are known as ACS telephonic customer premises equipment (ACS telephonic CPE).

Beginning in the 1980s, the Commission adopted a series of regulations to implement statutory directives requiring wireline telephone handsets in the United States (for use with the legacy telephone network) to be hearing aid compatible. In 2010, the Twenty-First Century Communications and Video Accessibility Act (CVAA), Public Law 111-260, sec. 102, 710(b), 124 Stat. 2751, 2753 (CVAA) (codified at 47 U.S.C. 610(b)), amended by Public Law 111-265, 124 Stat. 2795 (technical corrections to the CVAA), amended section 710(b) of the Communications Act of 1934 to apply the HAC requirements to ACS telephonic CPE, including VoIP telephones. In accordance with this provision, the Commission adopted Access to Telecommunications Equipment and Services by Persons with Disabilities et al., Report and Order and Order on Reconsideration, FCC 17-135, released October 26, 2017, which amended the HAC rules to cover ACS telephonic CPE to the extent such devices are designed to be held to the ear and provide two-way voice communication via a built-in speaker.

The information collections contain third-party disclosure and labeling requirements. The information is used to inform consumers who purchase or use wireline telephone equipment whether the telephone is hearing aid compatible; to ensure that manufacturers comply with applicable regulations and technical criteria; to ensure that information about ACS telephonic CPE is available in a database administered by the Administrative Council for Terminal Attachments (ACTA); and to facilitate the filing of complaints about the ACS telephonic CPE.

Wireline Handsets Used With the Legacy Telephone Network

• 47 CFR 68.224 requires that every non-hearing aid compatible wireline telephone used with the legacy wireline network that is offered for sale to the public contain in a conspicuous location on the surface of its packaging a statement that the telephone is not hearing aid compatible. If the handset is offered for sale without a surrounding package, then the telephone must be affixed with a written statement that the telephone is not hearing aid compatible. In addition, each handset must be accompanied by instructions in accordance with 47 CFR 68.218(b)(2).

• 47 CFR 68.300 requires that all wireline telephones used with the legacy wireline network that are manufactured in the United States (other than for export) or imported for use in the United States and that are hearing aid compatible have the letters “HAC” permanently affixed.

ACS Telephonic CPE

• New § 68.502(a) of the Commission's rules contains information collection requirements for ACS telephonic CPE that are similar to the HAC label and notice requirements in 47 CFR 68.224 and 68.300 (discussed above), i.e., the “HAC” labeling requirement for hearing aid compatible equipment, and the package information for non-hearing aid compatible equipment, apply to ACS telephonic CPE.

• New § 68.501 of the Commission's rules requires responsible parties to obtain certifications of their equipment by using a third-party Telecommunications Certification Body (TCB) or a Supplier's Declaration of Conformity. (A responsible party is the party, such as the manufacturer, that is responsible for the compliance of ACS telephonic CPE with the hearing aid compatibility rules and other applicable technical criteria. A Supplier's Declaration of Conformity is a procedure whereby a responsible party makes measurements or takes steps to ensure that CPE complies with technical standards, which results in a document by the same name.) Section 68.501 of the Commission's rules applies to ACS telephonic CPE rule sections defining the roles of TCBs and the uses of Supplier's Declarations of Conformity for wireline handsets used with the legacy telephone network.

• New § 68.504 of the Commission's rules requires information about ACS telephonic CPE to be included in a database administered by ACTA. (ACTA is an organization, previously created pursuant to FCC regulations, whose key function is to maintain a database of telephone equipment.) In addition, ACS telephonic CPE must be labeled as required by ACTA.

• New § 68.502(b) through (d) of the Commission's rules requires responsible parties to: Warrant that ACS telephonic CPE complies with applicable regulations and technical criteria; give the user instructions required by ACTA for ACS telephonic CPE that is hearing aid compatible; give the user a notice for ACS telephonic CPE that is not hearing aid compatible; and notify the purchaser or user of ACS telephonic CPE whose approval is revoked, that the purchaser or user must discontinue its use.

• New § 68.503 of the Commission's rules requires manufacturers of ACS telephonic CPE to designate an agent for service of process for complaints that may be filed at the FCC.

Federal Communications Commission.
Marlene Dortch,
Secretary, Office of the Secretary.

[FR Doc. 2018-10767 Filed 5-18-18; 8:45 am]

BILLING CODE 6712-01-P